NATIONAL AERONAUTICS AND SPACE ADMINISTRATION

48 CFR Parts 1807, 1815, and 1825

Acquisition Planning

AGENCY: National Aeronautics and Space Administration (NASA).

ACTION: Final rule.

SUMMARY: This final rule amends the NASA FAR Supplement (NFS) to: include additional circumstances when NASA field installations are required to identify certain acquisitions through the Master Buy Plan (MBP) process; add NASA's policy regarding the use of the structured approach for developing profit or fee when contracting with non-profit organizations which was mistakenly removed; and make editorial corrections and miscellaneous changes dealing with NASA internal and administrative matters.

EFFECTIVE DATE: July 21, 2000.

FOR FURTHER INFORMATION CONTACT: Bruce King, NASA Headquarters Office of Procurement, Program Operations Division (Code HS), Washington, DC 20546, (202) 358-0461, e-mail: bruce.king@hq.nasa.gov.

SUPPLEMENTARY INFORMATION:

A. Background

Current Master Buy Plan (MBP) submission guidance does not address high value acquisitions from or through other government agencies and Chiles Act cooperative agreements, and any acquisition deemed to be of significant importance to the Agency regardless of its dollar value. This final rule provides that NASA field installations identify these acquisitions through the MBP process for possible Headquarters review and approval. The change to NASA's structured approach for developing a profit or fee objective (64 FR 51472-51476, September 23, 1999) mistakenly deleted NASA's policy regarding the use of the structured approach for non-profit organizations and NASA's policy not to pay profit or fee on contracts with educational institutions. This final rule corrects this error by adding the previous language as section 1815.404-471-6. Additionally, editorial corrections and miscellaneous changes are made to correct the MBP format instructions, revise Internet reference citations, and correct the instructions for completing the Customs Form 7501, Entry Summary.

B. Regulatory Flexibility Act

NASA certifies that this rule will not have a significant economic impact on a substantial number of small business entities under the Regulatory Flexibility Act (5U.S.C. 601 et seq.) because it does not impose any new requirements.

C. Paperwork Reduction Act

The Paperwork Reduction Act does not apply because the changes to the NFS do not impose any recordkeeping or information collection requirements that require the approval of the Office of Management and Budget under 44 U.S.C. 3501, et seq.

List of Subparts in 48 CFR Parts 1807, 1815, and 1825

Government procurement.

Tom Luedtke,
Associate Administrator for Procurement.

Accordingly, 48 CFR Parts 1807, 1815 and 1825 are amended as follows:

1. The authority citation for 48 CFR Parts 1807, 1815 and 1825 continues to read as follows:

Authority: 42 U.S.C. 2473(c)(1)

PART 1807—ACQUISITION PLANNING

2. In section 1807.103 revise paragraph (d)(iii)(E) to read as follows:

1807.103 Agency-head responsibilities.

(d) * * *

(iii) * * *

(E) From or through other Government agencies except when the value of the acquisition meets the Master Buy Plan threshold (see 1807.7101(a));

* * * * *

3. Amend section 1807.7000 by removing “(http://ec.msfc.nasa.gov /hq/cci/first.html)” and adding “(http://procurement.nasa.gov/cgi-bin/CCI/first.cgi)” in its place.

4. In section 1807.7101, revise paragraph (a) and add paragraphs (c)(3) and (c)(4) to read as follows:

1807.7101 Applicability.

(a) The Master Buy Plan applies to each negotiated acquisition, including supplemental agreements and acquisitions through or from other Government agencies, where the dollar value, including the aggregate amount of options, follow-on acquisitions, or later phases of multi-phase acquisitions, is expected to equal or exceed $50,000,000.

* * * * *

(c) * * *

(3) Any cooperative agreement notice where the total value (the Government's contribution plus the contribution of the recipient) of any resulting cooperative agreement is expected to equal or exceed $50,000,000.

(4) Any acquisition designated by NASA Headquarters regardless of its value.

* * * * *

5. In Table 1807-1, the second sentence of items (5)-(9) in the section titled “Supplementary instructions by heading number” is amended by removing the words “column (8)” and adding “column (7)” in its place.

PART 1815—CONTRACTING BY NEGOTIATION

6. Add section 1815.404-471-6 to read as follows:

1815.404-471-6 Modification to structured profit/fee approach for nonprofit organizations.

(a) The structured approach was designed for determining profit or fee objectives for commercial organizations. However, the structured approach must be used as a basis for arriving at profit/fee objectives for nonprofit organizations (FAR subpart 31.7), excluding educational institutions (FAR subpart 31.3), in accordance with paragraph (b) of this section. It is NASA policy not to pay profit or fee on contracts with educational institutions.

(b) For contracts with nonprofit organizations under which profit or fee is involved, an adjustment of up to 3 percent of the costs in Block 13 of NASA Form 634 must be subtracted from the total profit/fee objective. In developing this adjustment, it is necessary to consider the following factors:

(1) Tax position benefits;

(2) Granting of financing through letters of credit;

(3) Facility requirements of the nonprofit organization; and

(4) Other pertinent factors that may work to either the advantage or disadvantage of the contractor in its position as a nonprofit organization.

PART 1825—FOREIGN ACQUISITION

7. Revise section 1825.903 to read as follows:

1825.903 Exempted supplies.

(a) Through delegation from the Associate Administrator for Procurement, procurement officers are authorized to certify duty free entry for articles imported into the United States, if those articles are procured by NASA or by other U.S. Government agencies, or by U.S. Government contractors or subcontractors when title to the articles is or will be vested in the U.S. Government in accordance with the terms of the contract or subcontract. Procurement officers shall complete the certification set forth in 14 CFR 1217.104(a) or 1217.104(c) (http://www.access.gpo.gov/nara/cfr/cfr-retrieve.html#page1). Upon arrival of foreign supplies at a port of entry, the consignee, generally the commercial carrier or its agent (import broker), will file Customs Form 7501, Entry Summary. This form is available from Service Ports (http://www.customs.ustreas.gov/location/ports/index.htm) or from NASA Headquarters' forms library (https://extranet.hq.nasa.gov/nef/user/form_search.cfm). All duty-free certificates must be coordinated with the center Chief Counsel. Procurement officers must maintain a record of each certification and make this record available for periodic review by NASA Headquarters and the U.S. Customs Service.

[FR Doc. 00-18390 Filed 7-20-00; 8:45 am]

BILLING CODE 7510-01-U